ENVIRONMENTAL PROTECTION AGENCY

40 CFR Part 52

[IL 184-1b; FRL-7481-4]

Approval and Promulgation of Implementation Plan; Illinois New Source Review Amendments

AGENCY: Environmental Protection Agency (EPA).

ACTION: Proposed rule.

SUMMARY: The EPA is proposing to approve a requested revision to the Illinois State Implementation Plan (SIP), affecting air permit rules, submitted on August 31, 1998. The submittal revises provisions for major modifications to stationary sources to align more closely with the Clean Air Act (CAA).

In the “Rules and Regulations” section of this Federal Register, EPA is approving the State's request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by June 12, 2003.

ADDRESSES: Copies of the documents relevant to this action are available for inspection during normal business hours at the following location:

EPA Region 5, 77 West Jackson Boulevard, AR-18J, Chicago, Illinois 60604. Please contact Steve Marquardt at (312) 353-3214 to arrange a time to inspect the submittal.

Written comments should be sent to:

Pamela Blakley, Chief, Permits and Grants Section, Air Programs Branch, (AR-18J), U.S. Environmental Protection Agency, Region 5, 77 West Jackson Boulevard, Chicago, Illinois 60604.

FOR FURTHER INFORMATION CONTACT: Steve Marquardt, AR-18J, 77 West Jackson Boulevard, Chicago, Illinois 60604, Telephone Number: (312) 353-3214, E-Mail Address: marquardt.steve@epa.gov.

SUPPLEMENTARY INFORMATION: Throughout this document whenever “we,” “us,” or “our” are used we mean the EPA.

I. What action is EPA taking today?

II. Where can I find more information about this proposal and corresponding direct final rule?

I. What Action Is EPA Taking Today?

The EPA is proposing to approve a requested revision to the Illinois SIP, affecting air permit rules, submitted on August 31, 1998. The submittal revises provisions for major modifications to stationary sources to align more closely with the Clean Air Act (CAA). The CAA sets forth the criteria for determining the applicability of the nonattainment NSR requirements in a serious or severe ozone nonattainment area.

II. Where Can I Find More Information About This Proposal and Corresponding Direct Final Rule?

For additional information see the direct final rule published in the rules and regulations section of this Federal Register.

Authority: 42 U.S.C. 4201 et seq.

Dated: April 2, 2003.
Bharat Mathur,
Regional Administrator, Region 5.

[FR Doc. 03-11750 Filed 5-12-03; 8:45 am]

BILLING CODE 6560-50-P